DEPARTMENT OF TRANSPORTATION

Federal Aviation Administration

14 CFR Part 97

[Docket No. 31123; Amdt. No. 3737]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective March 23, 2017. The compliance date for each SIAP, associated Takeoff Minimums, and ODP is specified in the amendatory provisions.

The incorporation by reference of certain publications listed in the regulations is approved by the Director of the Federal Register as of March 23, 2017.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or removes SIAPs, Takeoff Minimums and/or ODPs. The complete regulatory description of each SIAP and its associated Takeoff Minimums or ODP for an identified airport is listed on FAA form documents which are incorporated by reference in this amendment under 5 U.S.C. 552(a), 1 CFR part 51, and 14 CFR part 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPs, Takeoff Minimums and/or ODPs as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Incorporation by reference, Navigation (air).

Issued in Washington, DC, on February 24, 2017.
John S. Duncan,
Director, Flight Standards Service.

Adoption of the Amendment

Accordingly, pursuant to the authority delegated to me, Title 14, Code of Federal Regulations, Part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 30 March 2017

Miami, FL, Miami Intl, ILS OR LOC RWY 9, Amdt 10A

Titusville, FL, Space Coast Rgnl, RNAV (GPS) RWY 9, Amdt 1A

Tecumseh, MI, Meyers-Diver's, Takeoff Minimums and Obstacle DP, Amdt 2, CANCELED

Tecumseh, MI, Meyers-Diver's, VOR OR GPS-A, Amdt 7A, CANCELED

Troy, MI, Oakland/Troy, VOR-A, Amdt 4, CANCELED

Lebanon, MO, Floyd W. Jones Lebanon, SDF RWY 36, Amdt 5C, CANCELED

Tekamah, NE, Tekamah Muni, RNAV (GPS) RWY 15, Amdt 1

Tekamah, NE, Tekamah Muni, RNAV (GPS) RWY 33, Amdt 1

Tekamah, NE, Tekamah Muni, Takeoff Minimums and Obstacle DP, Amdt 3

New York, NY, Downtown Manhattan/Wall St, Takeoff Minimums and Obstacle DP, Orig

New York, NY, East 34th Street, Takeoff Minimums and Obstacle DP, Orig

New York, NY, John F Kennedy Intl, ILS OR LOC RWY 13L, ILS RWY 13L (CAT II), Amdt 18

Kenbridge, VA, Lunenburg County, RNAV (GPS) RWY 2, Orig, CANCELED

Kenbridge, VA, Lunenburg County, RNAV (GPS) RWY 20, Orig, CANCELED

Berkeley Springs, WV, Potomac Airpark, RNAV (GPS) RWY 11, Amdt 1

Berkeley Springs, WV, Potomac Airpark, RNAV (GPS) RWY 29, Amdt 1

Effective 27 April 2017

Fayetteville, AR, Drake Field, LOC RWY 16, Orig

Fayetteville, AR, Drake Field, LOC-C, Orig, CANCELED

Grand Canyon, AZ, Grand Canyon National Park, ILS OR LOC RWY 3, Amdt 1

Grand Canyon, AZ, Grand Canyon National Park, RNAV (GPS) RWY 3, Amdt 1

Grand Canyon, AZ, Grand Canyon National Park, VOR RWY 3, Amdt 6

Los Angeles, CA, Los Angeles Intl, ILS OR LOC RWY 6L, Amdt 14

Los Angeles, CA, Los Angeles Intl, ILS OR LOC RWY 7R, Amdt 8

Ontario, CA, Ontario Intl, RNAV (GPS) Y RWY 8R, Amdt 2

Ontario, CA, Ontario Intl, RNAV (RNP) Z RWY 8L, Amdt 1

Ontario, CA, Ontario Intl, RNAV (RNP) Z RWY 8R, Orig

Ontario, CA, Ontario Intl, RNAV (RNP) Z RWY 26L, Amdt 1

Ontario, CA, Ontario Intl, RNAV (RNP) Z RWY 26R, Amdt 1

San Carlos, CA, San Carlos, RNAV (GPS) Y RWY 30, Orig-B

San Carlos, CA, San Carlos, RNAV (GPS) Z RWY 30, Amdt 1B

Jacksonville, FL, Jacksonville Intl, RNAV (GPS) Z RWY 8, Amdt 2A

Leesburg, FL, Leesburg Intl, NDB RWY 31, Amdt 2A, CANCELED

Pohnpei Island, FM, Pohnpei Intl, NDB-A, Orig

Pohnpei Island, FM, Pohnpei Intl, NDB/DME OR GPS-A, Amdt 1B, CANCELED

Pohnpei Island, FM, Pohnpei Intl, RNAV (GPS) RWY 27, Amdt 2

Pohnpei Island, FM, Pohnpei Intl, RNAV (GPS) X RWY 9, Amdt 1

Pohnpei Island, FM, Pohnpei Intl, RNAV (RNP) Y RWY 9, Amdt 2

Pohnpei Island, FM, Pohnpei Intl, RNAV (RNP) Z RWY 9, Amdt 2

Pohnpei Island, FM, Pohnpei Intl, Takeoff Minimums and Obstacle DP, Amdt 3

Augusta, GA, Daniel Field, RADAR-1, Amdt 7C, CANCELED

Honolulu, HI, Daniel K. Inouye Intl, ILS RWY 8L, Amdt 23

Honolulu, HI, Daniel K. Inouye Intl, ILS Y RWY 4R, Amdt 1C

Honolulu, HI, Daniel K. Inouye Intl, ILS Z RWY 4R, Amdt 1B

Honolulu, HI, Daniel K. Inouye Intl, LDA RWY 26L, Amdt 5B

Honolulu, HI, Daniel K. Inouye Intl, LOC RWY 4R, Amdt 1B

Honolulu, HI, Daniel K. Inouye Intl, LOC RWY 8L, Amdt 1

Honolulu, HI, Daniel K. Inouye Intl, RNAV (GPS) RWY 4L, Orig-A

Honolulu, HI, Daniel K. Inouye Intl, RNAV (GPS) RWY 8R, Orig-A

Honolulu, HI, Daniel K. Inouye Intl, RNAV (GPS) Y RWY 4R, Amdt 2B

Honolulu, HI, Daniel K. Inouye Intl, RNAV (GPS) Y RWY 8L, Amdt 2

Honolulu, HI, Daniel K. Inouye Intl, RNAV (RNP) RWY 26L, Orig-D

Honolulu, HI, Daniel K. Inouye Intl, RNAV (RNP) Z RWY 4R, Amdt 1B

Honolulu, HI, Daniel K. Inouye Intl, RNAV (RNP) Z RWY 8L, Amdt 2

Honolulu, HI, Daniel K. Inouye Intl, VOR OR TACAN RWY 4R, Orig-C

Honolulu, HI, Daniel K. Inouye Intl, VOR OR TACAN-A, Amdt 1B

Honolulu, HI, Daniel K. Inouye Intl, VOR OR TACAN-B, Amdt 2B

Spencer, IA, Spencer Muni, NDB RWY 30, Amdt 9A, CANCELED

Grayslake, IL, Campbell, VOR-A, Orig-B, CANCELED

Greenwood/Wonder Lake, IL, Galt Field, VOR-A, Amdt 10, CANCELED

Frankfort, IN, Frankfort Muni, NDB RWY 9, Amdt 3B, CANCELED

Lowell, IN, Lowell, Takeoff Minimums and Obstacle DP, Orig, CANCELED

Lowell, IN, Lowell, VOR OR GPS-A, Orig-A, CANCELED

Jetmore, KS, Jetmore Muni, RNAV (GPS) RWY 17, Orig

Jetmore, KS, Jetmore Muni, RNAV (GPS) RWY 35, Orig

Jetmore, KS, Jetmore Muni, Takeoff Minimums and Obstacle DP, Orig

Grand Ledge, MI, Abrams Muni, VOR OR GPS-A, Amdt 5A, CANCELED

Lansing, MI, Capital Region Intl, VOR RWY 6, Amdt 25, CANCELED

Corinth, MS, Roscoe Turner, ILS OR LOC RWY 18, Amdt 3

Elizabeth City, NC, Elizabeth City CG Air Station/Rgnl, VOR/DME RWY 1, Amdt 12, CANCELED

Silver Springs, NV, Silver Springs, RNAV (GPS) RWY 24, Orig

Silver Springs, NV, Silver Springs, Takeoff Minimums and Obstacle DP, Orig

Dayton, OH, James M Cox Dayton Intl, Takeoff Minimums and Obstacle DP, Amdt 4

Aurora, OR, Aurora State, LOC RWY 17, Amdt 2

Aurora, OR, Aurora State, RNAV (GPS) RWY 17, Amdt 1

Aurora, OR, Aurora State, RNAV (GPS) RWY 35, Amdt 1

Aurora, OR, Aurora State, RNAV (GPS)-B, Orig-B, CANCELED

Aurora, OR, Aurora State, VOR/DME-A, Amdt 3B, CANCELED

Salem, OR, McNary Fld, ILS OR LOC Z RWY 31, Amdt 31

Salem, OR, McNary Fld, LOC BC RWY 13, Amdt 9

Salem, OR, McNary Fld, LOC Y RWY 31, Amdt 4

Salem, OR, McNary Fld, Takeoff Minimums and Obstacle DP, Amdt 9

Camden, TN, Benton County, VOR/DME RWY 4, Amdt 4A, CANCELED

Savannah, TN, Savannah-Hardin County, VOR/DME RWY 19, Amdt 5C, CANCELED

Selmer, TN, Robert Sibley, VOR/DME-A, ORIG, CANCELED

Pampa, TX, Perry Lefors Field, NDB RWY 17, Amdt 5A, CANCELED

South Hill, VA, Mecklenburg-Brunswick Rgnl, LOC RWY 1, Amdt 1

South Hill, VA, Mecklenburg-Brunswick Rgnl, RNAV (GPS) RWY 1, Amdt 1

South Hill, VA, Mecklenburg-Brunswick Rgnl, RNAV (GPS) RWY 19, Amdt 1

Kenosha, WI, Kenosha Rgnl, VOR RWY 25R, Amdt 1, CANCELED

Waupaca, WI, Waupaca Muni, NDB RWY 31, Orig, CANCELED

Waupaca, WI, Waupaca Muni, RNAV (GPS) RWY 10, Amdt 2

Waupaca, WI, Waupaca Muni, RNAV (GPS) RWY 28, Amdt 2

[FR Doc. 2017-04995 Filed 3-22-17; 8:45 am]

BILLING CODE 4910-13-P